DEPARTMENT OF DEFENSE

Defense Acquisition Regulations System

48 CFR Part 249

[Docket DARS-2019-0001]

Defense Federal Acquisition Regulation Supplement: Technical Amendment

AGENCY: Defense Acquisition Regulations System, Department of Defense (DoD).

ACTION: Final rule.

SUMMARY: DoD is making a technical amendment to the Defense Federal Acquisition Regulation Supplement (DFARS) to provide a needed editorial change.

DATES: Effective June 28, 2019.

FOR FURTHER INFORMATION CONTACT: Ms. Jennifer L. Hawes, Defense Acquisition Regulations System, OUSD (A&S) DPC (DARS), Room 3B941, 3060 Defense Pentagon, Washington, DC 20301-3060. Telephone 571-372-6115; facsimile 571-372-6094.

SUPPLEMENTARY INFORMATION: This final rule amends the DFARS to provide direction to contracting officers at DFARS 249.109-70 to see DFARS Procedures, Guidance, and Information (PGI) 249.109-70 for additional information and guidance for limitation on pricing of the terminated effort for settlement agreements.

List of Subjects in 48 CFR Part 249

Government procurement.

Jennifer Lee Hawes,
Regulatory Control Officer, Defense Acquisition Regulations System.

Therefore, 48 CFR part 249 is amended as follows:

PART 249—TERMINATION OF CONTRACTS

1. The authority citations for 48 CFR part 249 continue to read as follows:

Authority: 41 U.S.C. 421 and 48 CFR chapter 1.

2. Section 249.109-70 is added to read as follows:

249.109-70 Limitation on pricing of the terminated effort.

When there is a termination for convenience (partial or whole) or a change that reduces scope, follow the procedures at PGI 249.109-70 for limitation on pricing of the terminated or reduced effort.

[FR Doc. 2019-13746 Filed 6-27-19; 8:45 am]

BILLING CODE 5001-06-P